DEPARTMENT OF HEALTH AND HUMAN SERVICES

Centers for Disease Control and Prevention

[60Day-18-18UC; Docket No. CDC-2018-0029]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled Evaluation of the Sodium Reduction in Communities Program (SRCP) to estimate the costs to SRCP partners of implementing sodium reduction strategies. The proposed data collection aims to understand the costs to SRCP partner of implementing sodium reduction strategies.

DATES: CDC must receive written comments on or before July 31, 2018.

ADDRESSES: You may submit comments, identified by Docket No. CDC-2018-0029 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Leroy A. Richardson, Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Evaluation of the Sodium Reduction in Communities Program—New Collection—National Center for Chronic Disease Prevention and Health Promotion (NCCDPHP), Centers for Disease Control and Prevention (CDC).

Background and Brief Description

The CDC, Division for Heart Disease and Stroke Prevention (DHDSP), requests a one-year Office of Management and Budget (OMB) approval for a new information collection project titled Evaluation of the Sodium Reduction in Communities Program.

The CDC is the primary Federal agency for protecting health and promoting quality of life through the prevention and control of disease, injury, and disability. CDC is committed to programs that reduce the health and economic consequences of the leading causes of death and disability, thereby ensuring a long, productive, healthy life for all people.

Sodium reduction is a public health imperative. Although the 2015-2020 Dietary Guidelines for Americans recommends no more than 2,300 mg/day of sodium for adults, U.S. adults consume an average of more than 3,500 mg/day. CDC National Health and Nutrition Examination Survey (NHANES) data from 2013-2014 indicate that men over the age of 20 consume an average of 4,099 mg/day of sodium. The significant gap between recommended intake and average intake poses a serious public health risk; high sodium intake can lead to hypertension, a common and costly health risk in the United States. Researchers indicate that the number of American adults with hypertension, estimated at 77.9 million, continues to grow. The increasing prevalence of hypertension is especially troubling because high blood pressure can lead to serious health issues, including cardiovascular disease (CVD), stroke, and kidney disease. One study projected that the real direct medical costs of CVD will triple between 2010 and 2030, from $273 billion to $818 billion. Recent studies have shown that even modest population-level sodium reductions can lead to significant decreases in blood pressure and to potentially enormous savings—in lives and in dollars.

Reducing sodium levels presents a special set of challenges for public health programs because high sodium intake is largely the result of sodium found in processed foods and foods prepared in restaurants. Commonly used to enhance flavor, texture, and viscosity or to preserve foods, salt is often hidden and difficult for consumers to recognize. Past sodium reduction initiatives that focused on consumer outreach and education succeeded in creating awareness of the link between sodium and hypertension, but failed to make a significant impact on consumption levels. Although consumer outreach and education should be a part of any sodium reduction strategy, these strategies are independently insufficient. As such, multiple reports by the Institute of Medicine and the Food and Drug Administration have asserted the need for large-scale, population-based efforts to decrease sodium consumption.

Recognizing the importance of population-based approaches, CDC launched the first round of the SRCP in 2010 to reduce sodium intake by helping to create healthier food environments and a second round in 2013 to reduce sodium intake in food environments through population-based sodium reduction strategies. SRCP's project goals include increasing access to and availability of lower-sodium food options. The long-term goal of the initiative is to reduce sodium intake within the recommended levels in the Dietary Guidelines for Americans.

The 2010 SRCP awardees implemented strategies in a variety of venues, including worksites, schools, independent restaurants, grocery and convenience stores, hospitals, and venues serving meals for older adults (e.g., senior and congregate meal sites). RTI International led the cross-site evaluation for these communities and found that achievements at the community level have the potential to bolster ongoing efforts at the individual, organizational, and national levels, and vice versa. Thus, community-based sodium reduction strategies play an important role in supporting broader changes and individual behavior changes. RTI is currently wrapping up the evaluation of the second round of SRCP, and preliminary findings demonstrate a strong impact of the program on availability, accessibility, and purchase of lower sodium options.

CDC funded eight SRCP communities in 2016 to continue improving community and environmental supports for sodium reduction and to build practice-based evidence around effective population-based strategies to reduce sodium consumption. These communities are partnering with organizations to implement sodium reduction strategies in their food service venues. By creating a healthier environment, CDC seeks to decrease the population-wide burden of sodium intake.

CDC and RTI International propose to collect information from all partners of SRCP grantees that are willing to participate in order to estimate the costs to SRCP partners of implementing sodium reduction strategies. Partner organizations are those that work to implement the sodium reduction strategies in their food services and can include worksites, schools, universities, hospitals, senior meal programs, food banks, and restaurants. The information collection will occur via a cost data collection survey, in which respondents will be asked about a key set of sodium reduction activities that were developed during the evaluation of SRCP round two based on interviews with SRCP partners. Respondents are asked to report on all costs since beginning work on sodium reduction strategies as part of SRCP. While grantees began work on SRCP in 2016, partners began work at different times, so the time period of costs will vary by partner. Therefore, we also ask how long they have been working on sodium reduction. For each activity, respondents will be asked the number and types of staff that worked on the activity, the average monthly number of hours worked on that activity for each staff member, the number of months worked by each staff member, and how long the activity will continue. Additionally, for each activity, respondents will be asked to report any non-labor expenditures on materials or supplies. RTI will work with CDC and grantees to reach out to partners and request their participation in the survey. We will request participation from all SRCP partners via email.

The insights to be gained from this data collection will be critical to understanding the full costs of implementing SRCP at all levels of implementation for a set of key sodium reduction activities, which is an important factor in program planning and maintaining program longevity and sustainability. The estimated annual burden hours are 88.

Estimated Annualized Burden Hours
Type of respondents | Form name | Number of respondents | Number of responses per respondent | Average burden per response (in hours) | Total burden (in hours)
Partner Program Manager | Cost Survey | 88 | 1 | 1 | 88
Total |  |  |  |  | 88

Jeffrey M. Zirger,
Acting Chief, Information Collection Review Office, Office of Scientific Integrity, Office of the Associate Director for Science, Office of the Director, Centers for Disease Control and Prevention.

[FR Doc. 2018-11789 Filed 5-31-18; 8:45 am]

BILLING CODE 4163-18-P